DEPARTMENT OF VETERANS AFFAIRS

Fund Availability Under the Supportive Services for Veteran Families Program

AGENCY: Department of Veterans Affairs.

ACTION: Notice.

SUMMARY: The Department of Veterans Affairs (VA) is announcing the availability of funds for supportive services grants under the Supportive Services for Veteran Families (SSVF) Program. This Notice contains information concerning the SSVF Program, initial and renewal supportive services grant application processes, and amount of funding available.

DATES: Applications for initial and renewal supportive services grants under the SSVF Program must be received by the SSVF Program Office by 4 p.m. Eastern Time on February 15, 2012. In the interest of fairness to all competing applicants, this deadline is firm as to date and hour, and VA will treat as ineligible for consideration any application that is received after the deadline. Applicants should take this practice into account and make early submission of their materials to avoid any risk of loss of eligibility brought about by unanticipated delays, computer service outages, or other delivery-related problems.

For a Copy of the Application Packages: Download directly from the SSVF Program web page at: http://www.va.gov/HOMELESS/SSVF.asp. Questions should be referred to the SSVF Program Office via phone at (877) 737-0111 (this is a toll-free number) or via email at SSVF@va.gov. For detailed SSVF Program information and requirements, see the Final Rule published in the Federal Register (75 FR 68975) on November 10, 2010 (Final Rule), which is codified in 38 CFR Part 62.

Submission of Applications: Five completed, collated, hard copies of the application and two compact discs (CDs) containing electronic versions of the entire application are required. Each application copy must be (i) fastened with a binder clip; (ii) contain tabs listing the major sections of and exhibits to the application; and, (iii) placed in a separate manila folder labeled with the applicant's name. Each CD must be labeled with the applicant's name and must contain an electronic copy of the entire application. The Excel budget template must be attached in Excel format on the CD, but all other application materials may be attached in a PDF or other format. The application copies and CDs must be submitted to the following address: Supportive Services for Veteran Families Program Office, National Center on Homelessness Among Veterans, 4100 Chester Avenue, Suite 201, Philadelphia, PA 19104. This requirement for submission of five hard copies and two CDs also applies to applicants who submit via Grants.gov. Applications may not be sent by facsimile (FAX). Applications must be received in the SSVF Program Office by the application deadline. Applications must arrive as a complete package. Materials arriving separately will not be included in the application package for consideration and may result in the application being rejected. To encourage the equitable distribution of supportive services grants across geographic regions, in accordance with § 62.23(d)(2) of the Final Rule, an eligible entity may apply for a total of $1 million per year in grant funding per state. See Section E of this Notice for maximum allowable grant amounts.

FOR FURTHER INFORMATION CONTACT: John Kuhn, Supportive Services for Veteran Families Program Office, National Center on Homelessness Among Veterans, 4100 Chester Avenue, Suite 201, Philadelphia, PA 19104; ((877) 737-0111 (this is a toll-free number); SSVF@va.gov.

SUPPLEMENTARY INFORMATION: This Notice announces the availability of funds for supportive services grants under the SSVF Program and pertains to proposals for initial and renewal supportive services grant programs. Please refer to the Final Rule, published in the Federal Register (75 FR 68975) on November 10, 2010, which is codified in 38 CFR Part 62, for detailed SSVF Program information and requirements.

• Purpose: The SSVF Program's purpose is to provide supportive services grants to private non-profit organizations and consumer cooperatives who will coordinate or provide supportive services to very low-income veteran families who: (i) Are residing in permanent housing, (ii) are homeless and scheduled to become residents of permanent housing within a specified time period, or (iii) after exiting permanent housing within a specified time period, are seeking other housing that is responsive to such very low-income veteran family's needs and preferences.

• Definitions: Sections 62.2 and 62.11(a) of the Final Rule contain definitions of terms used in the SSVF Program. Definitions of key terms are also provided below for reference; however, the Final Rule should be consulted for all definitions.

Consumer cooperative has the meaning given such term in section 202 of the Housing Act of 1959 (12 U.S.C. 1701q).

Eligible entity means a: (1) Private non-profit organization, or (2) consumer cooperative.

Homeless has the meaning given that term in section 103 of the McKinney-Vento Homeless Assistance Act (42 U.S.C. 11302).

Occupying permanent housing means meeting any of the conditions set forth in § 62.11(a) of the Final Rule. Note: In accordance with § 62.11(a) of the Final Rule, a very low-income veteran family will be considered to be occupying permanent housing if the very low-income veteran family: (1) Is residing in permanent housing; (2) is homeless and scheduled to become a resident of permanent housing within 90 days pending the location or development of housing suitable for permanent housing; or (3) has exited permanent housing within the previous 90 days to seek other housing that is responsive to the very low-income veteran family's needs and preferences. For limitations on and continuations of the provision of supportive services to participants classified under categories (2) and (3), see § 62.35 of the Final Rule.

Participant means a very low-income veteran family occupying permanent housing who is receiving supportive services from a grantee.

Permanent housing means community-based housing without a designated length of stay. Examples of permanent housing include, but are not limited to, a house or apartment with a month-to-month or annual lease term or home ownership.

Private non-profit organization means any of the following:

(1) An incorporated private institution or foundation that: (i) Has no part of the net earnings that inure to the benefit of any member, founder, contributor, or individual; (ii) has a governing board that is responsible for the operation of the supportive services provided under this part; and (iii) is approved by VA as to financial responsibility.

(2) A for-profit limited partnership, the sole general partner of which is an organization meeting the requirements of paragraphs (1)(i), (ii) and (iii) of this definition.

(3) A corporation wholly owned and controlled by an organization meeting the requirements of paragraphs (1)(i), (ii), and (iii) of this definition.

(4) A tribally designated housing entity (as defined in section 4 of the Native American Housing Assistance and Self-Determination Act of 1996 (25 U.S.C. 4103)).

Supportive services means any of the following provided to address the needs of a participant:

(1) Outreach services as specified under § 62.30 of the Final Rule;

(2) Case management services as specified under § 62.31 of the Final Rule;

(3) Assisting participants in obtaining VA benefits as specified under § 62.32 of the Final Rule;

(4) Assisting participants in obtaining and coordinating other public benefits as specified under § 62.33 of the Final Rule; and

(5) Other services as specified under § 62.34 of the Final Rule.

Very low-income veteran family means a veteran family whose annual income, as determined in accordance with 24 CFR 5.609, does not exceed 50 percent of the median income for an area or community. The median income for an area or community will be determined using the income limits most recently published by the Department of Housing and Urban Development (HUD) for programs under section 8 of the United States Housing Act of 1937 (42 U.S.C. 1437f) (http://www.huduser.org).

Veteran means a person who served in the active military, naval, or air service, and who was discharged or released therefrom under conditions other than dishonorable.

Veteran family means a veteran who is a single person or a family in which the head of household, or the spouse of the head of household, is a veteran.

• Approach: Grantees will be expected to leverage supportive services grant funds to enhance the housing stability of very low-income veteran families who are occupying permanent housing. In doing so, grantees are encouraged to establish relationships with the local community's Continuum of Care. (HUD defines a Continuum of Care as, “a community plan to organize and deliver housing and services to meet the specific needs of people who are homeless as they move to stable housing and maximize self-sufficiency. It includes action steps to end homelessness and prevent a return to homelessness.”) The aim of the provision of supportive services is to assist very low-income veteran families residing in permanent housing to remain stably housed and to rapidly transition to stable housing (i) very low-income veteran families who are homeless and scheduled to become residents of permanent housing within 90 days, including those leaving VA's Homeless Providers Grant and Per Diem projects and (ii) very low-income veteran families who have exited permanent housing within the previous 90 days to seek other housing that is responsive to their needs and preferences. Accordingly, VA encourages eligible entities skilled in facilitating housing stability and currently operating rapid re-housing programs (i.e., administering HUD's Homelessness Prevention and Rapid Re-Housing Program (HPRP) funds or other comparable Federal or community resources) to apply for supportive services grants. The SSVF Program is not intended to provide long-term support for participants, nor will it be able to address all of the financial and supportive services needs of participants that affect housing stability. Rather, when participants require long-term support, grantees should focus on connecting such participants to mainstream Federal and community resources (e.g., HUD-VA Supported Housing (VASH) program, HUD Housing Choice Voucher programs, McKinney-Vento funded supportive housing programs, Temporary Assistance for Needy Families (TANF), etc.) that can provide ongoing support as required.

• Authority: Funding applied for under this Notice is authorized by 38 U.S.C. 2044 as amended by the Veterans' Health Care Facilities Capital Improvement Act of 2011, Public Law 112-37, § 12. The SSVF Program is implemented by the Final Rule codified at 38 CFR part 62. The regulations can be found in 38 CFR 62.1 through 62.81. Funds made available under this Notice are subject to the requirements of the aforementioned regulations and other applicable laws and regulations.

• Allocation: Approximately $100 million is available for initial and renewal supportive services grants to be funded under this Notice for a 1-year period. The following requirements apply to supportive services grants awarded under this Notice:

1. Each grant cannot exceed $1 million per year.

2. The total amount of supportive services grant funds awarded to a grantee (via one or multiple awards) cannot exceed $1 million per state per year.

3. The total amount of supportive services grant funds awarded to a grantee (via multiple awards) cannot exceed $3 million nationwide per year.

• Supportive Services Grant Award Period: All supportive services grants awarded under this Notice will be for a 1-year period.

• Requirements for the Use of Supportive Services Grant Funds: The grantee's request for funding must be consistent with the limitations and uses of supportive services grant funds set forth in the Final Rule and this Notice. In accordance with the Final Rule and this Notice, the following requirements apply to supportive services grants awarded under this Notice:

1. Grantees may use a maximum of 10 percent of supportive services grant funds for administrative costs identified in § 62.70 of the Final Rule.

2. Grantees must use a minimum of 60 percent of supportive services grant funds to serve very low-income veteran families who either (i) are homeless and scheduled to become residents of permanent housing within 90 days pending the location or development of housing suitable for permanent housing, as described in § 62.11(a)(2) of the Final Rule, or (ii) have exited permanent housing within the previous 90 days to seek other housing that is responsive to their needs and preferences, as described in § 62.11(a)(3) of the Final Rule.

3. Grantees may utilize a maximum of 30 percent of supportive services grant funds to provide the supportive service of temporary financial assistance paid directly to a third party on behalf of a participant for child care, transportation, rental assistance, utility-fee payment assistance, security deposits, utility deposits, moving costs, and emergency supplies in accordance with §§ 62.33 and 62.34 of the Final Rule.

• Guidance for the Use of Supportive Services Grant Funds: Grantees are encouraged to consider the following guidance for the use of supportive services grant funds:

1. When serving participants who (i) are homeless and scheduled to become residents of permanent housing or (ii) have exited permanent housing in order to seek other housing that is responsive to their needs and preferences, in addition to the required supportive services pursuant to §§ 62.30-62.33 of the Final Rule, grantees may focus on providing the following supportive services: housing counseling; assisting participants in understanding leases; securing utilities; making moving arrangements; representative payee services concerning rent and utilities; and mediation and outreach to property owners related to locating or retaining housing as per § 62.34 of the Final Rule. Grantees may also assist participants by providing rental assistance, security or utility deposits, moving costs or emergency supplies, using other Federal resources, such as the HPRP Program, or supportive services grant funds subject to the limitations described in this Notice and § 62.34 of the Final Rule.

2. When serving participants who are residing in permanent housing, it is helpful to remember that the defining question to ask is: “Would this individual or family be homeless but for this assistance?” To aid grantees in targeting SSVF Program funds toward very low-income veteran families most at risk of becoming homeless, a number of potential “risk factors” are listed below that could indicate a higher risk of becoming homeless. This list contains examples of some commonly identified risk factors for homelessness from scholarly research and practical experience drawn from existing homelessness prevention programs. One way a grantee could use these factors would be to require that a participant demonstrate some combination of the risk factors to qualify for assistance. Grantees should note that this list is optional and not exhaustive. Grantees may consider other risk factors or other ways to target persons at risk of homelessness based on past experience and available resources. A formalized screening tool should be developed to assess a very low-income veteran family's risk of homelessness and to prioritize the provision of supportive services to those very low-income veteran families most in need. The risk factors for homelessness for consideration by grantees in developing their programs are as follows:

a. Eviction within 2 weeks from a private dwelling (including housing provided by family or friends);

b. Discharge within 2 weeks from an institution in which the person has been a resident for more than 180 days (including prisons, mental health institutions, hospitals);

c. Residency in housing that has been condemned by housing officials and is no longer meant for human habitation;

d. Sudden and significant loss of income;

e. Sudden and significant increase in utility costs;

f. Mental health and substance use issues;

g. Physical disabilities and other chronic health issues, including HIV/AIDS;

h. Severe housing cost burden (greater than 50 percent of income for housing costs);

i. Homeless in last 12 months;

j. Young head of household (under 25 with children or pregnant);

k. Current or past involvement with child welfare, including foster care;

l. Pending foreclosure of rental housing;

m. Extremely low income (less than 30 percent of area median income);

n. High overcrowding (the number of persons in household exceeds health and/or safety standards for the housing unit size);

o. Past institutional care (prison, treatment facility, hospital);

p. Recent traumatic life event, such as death of a spouse or primary care provider, or recent health crisis that prevented the household from meeting its financial responsibilities;

q. Credit problems that preclude obtaining of housing; or

r. Significant amount of medical debt.

In addition to the required supportive services, supportive services provided to this category of very low-income veteran families should focus on the following: housing stabilization, linking participants to community resources and mainstream benefits, and helping participants develop a plan for preventing future housing instability.

3. Where HPRP funds or other funds from community resources are not readily available, grantees may choose to utilize supportive services grants, subject to the limitations described in this Notice and in §§ 62.33 and 62.34 of the Final Rule, to provide temporary financial assistance. Such assistance may, subject to the limitations in this Notice and the Final Rule, be paid directly to a third party on behalf of a participant for child care, transportation, rental assistance, utility-fee payment assistance, security or utility deposits, moving costs and emergency supplies as necessary.

• Funding Priorities: The funding priorities for this Notice are as follows:

1. Funding Priority 1. Funding Priority 1 is for existing SSVF Program grantees seeking to renew their supportive services grants. To be eligible for renewal of a supportive services grant, the grantee's program must continue to meet the threshold requirements under § 62.21 and remain substantially the same as the program proposed in its initial application. To be considered “substantially the same,” a renewal application must request a grant amount that is no more or less than 10 percent of the grantee's current grant award (subject to the allocation limitations described in Section E of this Notice) and may include only minor changes in key personnel, target populations, geographic areas or communities served, and supportive services offered. (Note: if an existing grantee would like to substantially modify an existing program, the grantee may submit an initial application and apply under Funding Priority 2.) An existing grantee applying for funding for a program that is substantially the same as their existing program may only apply under Funding Priority 1. Approximately $60 million is available under Funding Priority 1. Should not enough applications be funded under Funding Priority 1, funds not expended in this priority will fall to Funding Priority 2.

2. Funding Priority 2. Funding Priority 2 is for eligible entities applying for initial supportive services grants.

• Supportive Services Grant Application Selection Methodology: VA will review all initial and renewal supportive services grant applications in response to this Notice according to the following steps:

1. Score all applications that meet the threshold requirements described in § 62.21 of the Final Rule.

2. Group applications within the applicable funding priorities set forth in Section I of this Notice.

3. Rank those applications in Funding Priority 1 (renewal supportive services grants) who score at least 85 cumulative points and receive at least one point under each of the categories identified in § 62.24, paragraphs (a), (b), and (c) of the Final Rule. The applications will be ranked in order from highest to lowest scores.

4. Rank those applications in Funding Priority 2 (initial supportive services grants) who score at least 60 cumulative points and receive at least one point under each of the categories identified in § 62.22, paragraphs (a), (b), (c), (d), and (e) of the Final Rule. The applications will be ranked in order from highest to lowest scores.

5. Utilize the ranked scores of applications as the primary basis for selection. However, in accordance with § 62.23(d) of the Final Rule, VA will utilize the following considerations to select applicants for funding:

i. Preference applications that provide or coordinate the provision of supportive services for very low-income veteran families transitioning from homelessness to permanent housing; and

ii. To the extent practicable, ensure that supportive services grants are equitably distributed across geographic regions, including rural communities and tribal lands.

6. Subject to the considerations noted in paragraph J.4. above, VA will fund the highest-ranked applications for which funding is available, within the highest funding priority group. To the extent funding is available and subject to the considerations noted in paragraph J.4 above, VA will select applications in the next highest funding priority group based on their rank within that group.

• VA's Goals and Objectives for Funds Awarded Under this Notice: In accordance with § 62.22(b)(6) of the Final Rule, VA will evaluate an applicant's ability to meet VA's goals and objectives for the SSVF Program. VA's goals and objectives include the provision of supportive services designed to enhance the housing stability and independent living skills of very low-income veteran families occupying permanent housing across geographic regions. For purposes of this Notice, VA's goals and objectives also include the provision of supportive services designed to rapidly re-house or prevent homelessness among people in the following target populations who also meet all requirements for being part of a very low-income veteran family occupying permanent housing:

1. Veteran families earning less than 30 percent of area median income as most recently published by HUD for programs under section 8 of the United States Housing Act of 1937 (42 U.S.C. 1437f) (http://www.huduser.org).

2. Veterans with at least one dependent family member.

3. Veterans returning from Operation Enduring Freedom, Operation Iraqi Freedom, or Operation New Dawn.

4. Veteran families located in a rural area.

5. Veteran families located on Indian Tribal Property.

• Application Requirements: Additional supportive services grant application requirements are specified in the initial and renewal application packages. Submission of an incorrect or incomplete application package will result in the application being rejected during threshold review. The application packages contain all required forms and certifications. Selections will be made based on criteria described in the Final Rule and this Notice. Applicants and grantees will be notified of any additional information needed to confirm or clarify information provided in the application and the deadline by which to submit such information.

• Payments of Supportive Services Grant Funds: Grantees will receive payments electronically through the U.S. Department of Health and Human Services Payment Management System (HHS PMS). Grantees will have the ability to request payments as frequently as they choose subject to the following limitations:

1. During the first quarter of the grantee's supportive services grant award period, the grantee's cumulative requests for supportive services grant funds may not exceed 35 percent of the total supportive services grant award without written approval by VA.

2. By the end of the second quarter of the grantee's supportive services grant award period, the grantee's cumulative requests for supportive services grant funds may not exceed 60 percent of the total supportive services grant award without written approval by VA.

3. By the end of the third quarter of the grantee's supportive services grant award period, the grantee's cumulative requests for supportive services grant funds may not exceed 80 percent of the total supportive services grant award without written approval by VA.

4. By the end of the fourth quarter of the grantee's supportive services grant award period, the grantee's cumulative requests for supportive services grant funds may not exceed 100 percent of the total supportive services grant award.

• Monitoring: VA places great emphasis on the responsibility and accountability of grantees. As described in §§ 62.23 and 62.71 of the Final Rule, VA has procedures in place to monitor supportive services provided to participants and outcomes associated with the supportive services provided under the SSVF Program. Applicants should be aware of the following:

1. Upon execution of a supportive services grant agreement with VA, grantees will have a VA regional coordinator assigned by the SSVF Program Office who will provide oversight and monitor supportive services provided to participants.

2. Grantees will be required to enter data into a Homeless Management Information System (HMIS) Web-based software application. This data will consist of information on the participants served and types of supportive services provided by grantees. Grantees must treat the data for activities funded by the SSVF Program separate from that of activities funded by other programs. Grantees will be required to work with their HMIS Administrators to export client-level data for activities funded by the SSVF Program to VA on at least a monthly basis.

3. Monitoring will also include the submittal of quarterly and annual financial and performance reports by the grantee. The grantee will be expected to demonstrate adherence to the grantee's proposed program concept, as described in the grantee's application.

4. Grantees will be required to provide each participant with a satisfaction survey which can be submitted by the participant directly to VA, within 45 to 60 days of the participant's entry into the grantee's program and again within 30 days of such participant's pending exit from the grantee's program.

O. Technical Assistance: Information regarding how to obtain technical assistance with the preparation of an initial or renewal supportive services grant application is available on the SSVF Program web page at: http://www.va.gov/HOMELESS/SSVF.asp.

Dated: November 21, 2011.
John R. Gingrich,
Chief of Staff, Department of Veterans Affairs.

[FR Doc. 2011-30778 Filed 11-30-11; 8:45 am]

BILLING CODE 8320-01-P